DEPARTMENT OF ENERGY

Federal Energy Regulatory Commission

Combined Notice of Filings #1

Take notice that the Commission received the following exempt wholesale generator filings:

Docket Numbers: EG13-53-000.

Applicants: RE Columbia 3 LLC.

Description: RE Columbia 3 LLC Notice of Self-Certification of Exempt Wholesale Generator Status.

Filed Date: 8/16/13.

Accession Number: 20130816-5124.

Comments Due: 5 p.m. ET 9/6/13.

Docket Numbers: EG13-54-000.

Applicants: RE Columbia, LLC.

Description: RE Columbia, LLC Notice of Self-Certification of Exempt Wholesale Generator Status.

Filed Date: 8/16/13.

Accession Number: 20130816-5125.

Comments Due: 5 p.m. ET 9/6/13.

Docket Numbers: EG13-55-000.

Applicants: RE Yakima LLC.

Description: RE Yakima LLC Notice of Self-Certification of Exempt Wholesale Generator Status.

Filed Date: 8/16/13.

Accession Number: 20130816-5126.

Comments Due: 5 p.m. ET 9/6/13.

Take notice that the Commission received the following electric rate filings:

Docket Numbers: ER13-1910-001.

Applicants: Guzman Power Markets

Description: Market-Based Rate Tariff #1 revision to be effective 8/20/2013.

Filed Date: 8/16/13.

Accession Number: 20130816-5105.

Comments Due: 5 p.m. ET 9/6/13.

Docket Numbers: ER13-2074-001.

Applicants: E.ON Global Commodities North America LLC.

Description: Amendment to 1 to be effective 10/1/2013.

Filed Date: 8/16/13.

Accession Number: 20130816-5093.

Comments Due: 5 p.m. ET 9/6/13.

Docket Numbers: ER13-2173-000.

Applicants: Southwest Power Pool, Inc.

Description: 1997R2 City of Mulvane, Kansas NITSA and NOA to be effective 8/1/2013.

Filed Date: 8/16/13.

Accession Number: 20130816-5131.

Comments Due: 5 p.m. ET 9/6/13.

Docket Numbers: ER13-2174-000.

Applicants: Southwest Power Pool, Inc.

Description: Order 719 Compliance Filing—Attachment AE, Section 4.1.2 to be effective 3/1/2014.

Filed Date: 8/16/13.

Accession Number: 20130816-5145.

Comments Due: 5 p.m. ET 9/6/13.

Docket Numbers: ER13-2175-000.

Applicants: Fairless Energy, LLC.

Description: Compliance Filing—Amended Single MBR Tariff and Chg of DF to DEMI to be effective 8/19/2013.

Filed Date: 8/16/13.

Accession Number: 20130816-5158.

Comments Due: 5 p.m. ET 9/6/13.

Docket Numbers: ER13-2176-000.

Applicants: PJM Interconnection, L.L.C.

Description: Revisions to OATT & OA re Regional Balancing Operating Reserve Rate Errata to be effective 10/15/2013.

Filed Date: 8/16/13.

Accession Number: 20130816-5159.

Comments Due: 5 p.m. ET 9/6/13.

Docket Numbers: ER13-2177-000.

Applicants: Southwest Power Pool, Inc.

Description: 1641R4 GRDA NITSA and NOA Notice of Cancellation to be effective 6/1/2013.

Filed Date: 8/16/13.

Accession Number: 20130816-5160.

Comments Due: 5 p.m. ET 9/6/13.

Docket Numbers: ER13-2178-000.

Applicants: California Independent System Operator Corporation.

Description: 2013-08-16_SMUD_MEEA to be effective 10/16/2013.

Filed Date: 8/16/13.

Accession Number: 20130816-5161.

Comments Due: 5 p.m. ET 9/6/13.

Docket Numbers: ER13-2179-000.

Applicants: Dominion Bridgeport Fuel Cell, LLC.

Description: Compliance Filing—Certificate of Concurrence Chg to DEMI to be effective 8/19/2013.

Filed Date: 8/16/13.

Accession Number: 20130816-5169.

Comments Due: 5 p.m. ET 9/6/13.

Docket Numbers: ER13-2180-000.

Applicants: New England Hydro Transmission Electric.

Description: NEHTEC Agreement with Hydro-Quebec TransEnergie re HVDC Interconnection to be effective 7/29/2013.

Filed Date: 8/16/13.

Accession Number: 20130816-5181.

Comments Due: 5 p.m. ET 9/6/13.

Docket Numbers: ER13-2181-000.

Applicants: Southwest Power Pool, Inc.

Description: 2023R1 Midwest Energy, Inc. NITSA and NOA Notice of Cancellation to be effective 6/1/2013.

Filed Date: 8/16/13.

Accession Number: 20130816-5182.

Comments Due: 5 p.m. ET 9/6/13.

Docket Numbers: ER13-2182-000.

Applicants: Entergy Arkansas, Inc.

Description: Collation Value Correction Filing to be effective 8/1/2010.

Filed Date: 8/19/13.

Accession Number: 20130819-5000.

Comments Due: 5 p.m. ET 9/9/13.

Docket Numbers: ER13-2183-000.

Applicants: Elwood Energy, LLC.

Description: Compliance Filing—Amended Cert of Concurrence Chg to DEMI to be effective 8/19/2013.

Filed Date: 8/19/13.

Accession Number: 20130819-5001.

Comments Due: 5 p.m. ET 9/9/13.

Docket Numbers: ER13-2184-000.

Applicants: Kincaid Generation, L.L.C.

Description: Compliance Filing—Amded Cert of Concurrence Chg to DEMI to be effective 8/20/2013.

Filed Date: 8/19/13.

Accession Number: 20130819-5002.

Comments Due: 5 p.m. ET 9/9/13.

Docket Numbers: ER13-2185-000.

Applicants: Dominion Nuclear Connecticut, Inc.

Description: Compliance Filing—Amded Certificate on Concurrence Chg to DEMI to be effective 8/20/2013.

Filed Date: 8/19/13.

Accession Number: 20130819-5003.

Comments Due: 5 p.m. ET 9/9/13.

Docket Numbers: ER13-2186-000.

Applicants: Duke Energy Progress, Inc.

Description: Duke Energy Progress, Inc. submits its Revised Depreciation Rates under ER13-2186.

Filed Date: 8/16/13.

Accession Number: 20130816-5186.

Comments Due: 5 p.m. ET 9/6/13.

Docket Numbers: ER13-2187-000.

Applicants: Midcontinent Independent System Operator, Inc.

Description: Midcontinent Independent System Operator, Inc. files this calculation of the Cost of New Entry value (CONE) applicable to the Local Resource Zones (LRZ) recently established in the MISO Southern Region.

Filed Date: 8/16/13.

Accession Number: 20130816-5187.

Comments Due: 5 p.m. ET 9/6/13.

Docket Numbers: ER13-2188-000.

Applicants: Pacific Gas and Electric Company.

Description: Notice of Termination of Pacific Gas and Electric Company of the Crystal Springs Pump Station Facilities Charge Agreement [RS No. 156] for the City and County of San Francisco.

Filed Date: 8/16/13.

Accession Number: 20130816-5196.

Comments Due: 5 p.m. ET 9/6/13.

Take notice that the Commission received the following qualifying facility filings:

Docket Numbers: QF13-597-000.

Applicants: Caterpillar Inc.

Description: Form 556—notice of self-certification of qualifying cogeneration facility of Caterpillar Inc.

Filed Date: 8/16/13.

Accession Number: 20130816-5204.

Comments Due: None Applicable.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 19, 2013.
Nathaniel J. Davis, Sr.,
Deputy Secretary.

[FR Doc. 2013-20691 Filed 8-23-13; 8:45 am]

BILLING CODE 6717-01-P